DEPARTMENT OF DEFENSE

Department of the Army; Corps of Engineers

[USACE Project No. SWF-2007-00560]

Availability of a Draft Environmental Impact Statement To Consider Issuance of a Department of the Army Permit Pursuant to Section 404 of the Clean Water Act for the Sabine Mining Company's Proposal To Construct, Operate, and Reclaim the Rusk Permit Area, Rusk, Panola, and Harrison Counties, TX

AGENCY: Department of the Army, U.S. Army Corps of Engineers, DoD.

ACTION: Notice of availability.

SUMMARY: In accordance with the requirements of the National Environmental Policy Act (NEPA), the U.S. Army Corps of Engineers (USACE) Fort Worth District has prepared a Draft Environmental Impact Statement (DEIS). This DEIS evaluates project alternatives and potential impacts to the natural, physical and human environment as a result of the Sabine Mining Company's proposal to construct, operate and reclaim the Rusk Permit Area. The USACE regulates this proposed project pursuant to Section 10 of the Rivers and Harbors Act of 1899 and Section 404 of the Clean Water Act. The proposed activity would involve the discharge of dredged and fill material into waters of the United States associated with the proposed construction, operation and reclamation of the Rusk Permit Area.

DATES: Submit comments no later than 60 days from the date of publication of this notice. An informal public information meeting (open house format) regarding this DEIS will be held on November 15, 2010, and a formal public hearing regarding this DEIS will be held on November 16, 2010 (see SUPPLEMENTARY INFORMATION).

ADDRESSES: Send written comments and suggestions concerning this proposal to Mr. Darvin Messer, Regulatory Project Manager, Regulatory Branch, CESWF-PER-R, U.S. Army Corps of Engineers, Fort Worth District, P.O. Box 17300, Fort Worth, TX 76102-0300 or via e-mail: Darvin.Messer@usace.army.mil. Requests to be placed on the mailing list should also be sent to this address. Please reference USACE Project No. SWF-2007-00560.

FOR FURTHER INFORMATION CONTACT: Mr. Darvin Messer, Regulatory Project Manager at (817) 886-1744 or via e-mail: Darvin.Messer@usace.army.mil.

SUPPLEMENTARY INFORMATION: Discharges of fill material into waters of the United States are regulated under Section 404 of the Clean Water Act, with the permitting responsibility administered by the USACE. The proposed project must also address environmental impacts relative to the Clean Air Act, Clean Water Act, Endangered Species Act and the Fish and Wildlife Coordination Act (FWCA). In accordance with the NEPA, the DEIS evaluates practicable alternatives for the USACE's decision making process. As required by NEPA, the USACE also analyzes the “no action” alternative as a baseline for gauging potential impacts.

As part of the public involvement process, notice is hereby given by the USACE Fort Worth District of an informal public information meeting (open house format) to be held at the Tatum High School Auxiliary Gymnasium, Tatum, TX, from 5 to 7:30 p.m. on November 15, 2010. This meeting will afford interested parties the opportunity to engage in a dialog with the USACE regarding the EIS process and the analyses performed to date. The USACE Fort Worth District will also be holding a formal public hearing to be held at the Tatum High School Auditorium, Tatum, TX, from 5 to 7:30 p.m. on November 16, 2010. The public hearing will allow participants the opportunity to comment on the DEIS prepared for the proposed Rusk Permit Area. Written comments should be sent to Mr. Darvin Messer (see ADDRESSES). The comments are due no later than 60 days from the date of publication of this notice. Copies of the DEIS may be obtained by contacting USACE Fort Worth District Regulatory Branch at (817) 886-1731 or downloaded/printed from the Fort Worth District USACE Internet Web site at: http://www.swf.usace.army.mil/pubdata/environ/regulatory/permitting/rusk.asp.

Copies of the DEIS are also available for inspection at the locations identified below:

(1) Tatum Public Library, 335 Hood Street, Tatum, TX 75691.

(2) Sammie Brown Library, 522 West College Street, Carthage, TX 75633.

(3) Longview Public Library, 222 West Cotton Street, Longview, TX 75601.

(4) Rusk County Library, 106 East Main St., Henderson, TX 75652.

(5) Marshall Public Library, 300 South Alamo Boulevard, Marshall, TX 75670.

(6) Henderson City Hall, 400 West Main Street, Henderson, TX 75652.

(7) Tatum City Hall, 680 Crystal Farms Road, Tatum, TX 75691.

(8) Longview City Hall, 300 West Cotton Street, Longview, TX 75601.

(9) Carthage City Hall, 812 West Panola Street, Carthage, TX 75633.

(10) Marshall City Hall, 401 South Alamo Boulevard, Marshall, TX 75785.

After the public comment period ends, the USACE will consider all comments received, revise the DEIS as appropriate, and issue a Final Environmental Impact Statement.

Stephen L. Brooks,
Chief, Regulatory Branch.

[FR Doc. 2010-27056 Filed 10-28-10; 8:45 am]

BILLING CODE 3720-58-P